DEPARTMENT OF ENERGY

Federal Energy Regulatory Commission

[Docket No. ER01-1099-003, et al.]

Cleco Power LLC, et al.; Electric Rate and Corporate Regulation Filings

June 6, 2001.

Take notice that the following filings have been made with the Commission:

1. Cleco Power LLC

[Docket No. ER01-1099-003]

Take notice that on June 1, 2001, Cleco Power LLC (Cleco Power), tendered for filing its Notice of Succession pursuant to 18 CFR 35.16, effective December 31, 2000, in which it adopted, ratified, and made its own in every respect Rate Schedule 18, and supplements thereto, heretofore filed with the Commission by Cleco Utility Group Inc. (Cleco Utility).

Effective December 31, 2000, Cleco Utility was converted from a corporate form to a limited liability company form. The conversion was effectuated through a merger with an entity formed solely for purposes of the conversion, namely Cleco Power, with Cleco Power as the surviving entity. On January 29, 2001, Cleco Power filed a Notice of Succession succeeding to most tariffs, service agreements and rate schedules of Cleco Utility. On February 14, 2001, Cleco Power filed an amendment to the Notice of Succession, succeeding to several more Cleco Utility rate schedules. Rate Schedule 18 was inadvertently omitted from the Notice of Succession and the amendment to the Notice of Succession, therefore, a second Notice of Succession was submitted for filing.

Comment date: June 22, 2001, in accordance with Standard Paragraph E at the end of this notice.

2. Puget Sound Energy, Inc.

[Docket No. ER01-1470-001]

Take notice that on June 1, 2001, Puget Sound Energy, Inc. (PSE) tendered for filing a redesignated copy of the 2000-2001 Operating Procedures attached to and continuously paginated with the Pacific Northwest Coordination Agreement (PNCA). PSE states that the 2000-2001 Operating Procedures relate to service under the PNCA.

A copy of the filing was served upon the parties to the PNCA.

Comment date: June 22, 2001, in accordance with Standard Paragraph E at the end of this notice.

3. Illinois Power Company

[Docket Nos. ER01-1592-001, ER01-1598-001 and ER01-1706-001]

Take notice that on June 1, 2001, Illinois Power Company (Illinois Power), 500 South 27th Street, Decatur, Illinois 65251-2200, tendered for filing with the Commission service agreement designations as required by Order No. 614 and the Letter Order issued on May 10, 2001 in these dockets.

Comment date: June 22, 2001, in accordance with Standard Paragraph E at the end of this notice.

4. Wolverine Power Supply Cooperative, Inc.

[Docket No. ER01-1815-000]

Take notice that on May 30, 2001, Wolverine Power Supply Cooperative, Inc. tendered for filing a Notice of Withdrawal of its application to change its Rate Schedule FERC No. 4—Wholesale Service to Member Distribution Cooperatives. Wolverine also requests termination of this docket. Wolverine reserves the right to seek a rate change at a later time.

Comment date: June 20, 2001, in accordance with Standard Paragraph E at the end of this notice.

5. ANP Bellingham Energy Company, LLC (successor to ANP Bellingham Energy Company); ANP Blackstone Energy Company, LLC (successor to ANP Blackstone Energy Company)

[Docket No. ER01-1967-001 and ER01-1968-001]

Take notice that on June 1, 2001, ANP Bellingham Energy Company, LLC and ANP Blackstone Energy Company, LLC tendered for filing an Amended Notice of Succession to succeed to the market-based rate tariff of ANP Bellingham Energy Company and ANP Blackstone Energy Company, effective April 24, 2001.

Comment date: June 22, 2001, in accordance with Standard Paragraph E at the end of this notice.

6. New England Power Pool

[Docket No. ER01-2193-000]

Take notice that on June 1, 2001, the New England Power Pool (NEPOOL) Participants Committee tendered for filing for acceptance materials (1) to permit NEPOOL to expand its membership to include ANP Funding I, LLC, Conservation Services Group, Inc., Dominion Nuclear Marketing III, LLC, and Northeast Generation Services Company (together, the Applicants); and (2) to terminate the membership of the New York Power Authority (NYPA). The Participants Committee requests an effective date of June 1, 2001 for commencement of participation in NEPOOL by Applicants and May 1, 2001 for the termination of NYPA.

The Participants Committee states that copies of these materials were sent to the New England state governors and regulatory commissions and the Participants in NEPOOL.

Comment date: June 22, 2001, in accordance with Standard Paragraph E at the end of this notice.

7. New England Power Company

[Docket No. ER01-2194-000]

Take notice that on June 1, 2001, New England Power Company (NEP) tendered for filing Second Revised Service Agreement for Firm Local Generation Delivery Service under NEP's Open Access Transmission Tariff, FERC Electric Tariff, Second Revised Volume No. 9 between NEP and ANP Bellingham Energy Company (ANP).

NEP states that this filing has been served upon ANP and regulators in the Commonwealth of Massachusetts.

Comment date: June 22, 2001, in accordance with Standard Paragraph E at the end of this notice.

8. Mid-Continent Area Power Pool

[Docket No. ER01-2195-000]

Take notice that on June 1, 2001, the Mid-Continent Area Power Pool (MAPP), on behalf of its members that are subject to Commission jurisdiction as public utilities under Section 201(e) of the Federal Power Act, tendered for filing its Inadvertent Settlement Tariff, which obligates the control area operators in the MAPP RTC region to make payments and receive compensation for inadvertent interchange.

MAPP has served copies of this filing on all MAPP members as well as the state commissions in the MAPP region.

Comment date: June 22, 2001, in accordance with Standard Paragraph E at the end of this notice.

9. Rochester Gas and Electric Corporation

[Docket No. ER01-2196-000]

Take notice that on June 1, 2001 Rochester Gas and Electric Corporation (RG&E) tendered for filing a Service Agreement between RG&E and University of Rochester (Customer). This Service Agreement specifies that the Customer has agreed to the rates, terms and conditions of RG&E's FERC Electric Rate Schedule, Original Volume 3.

RG&E requests waiver of the Commission's sixty (60) day notice requirements and an effective date of May 1, 2001 for the Service Agreement. RG&E has served copies of the filing on the New York State Public Service Commission and on the Customer.

Comment date: June 22, 2001, in accordance with Standard Paragraph E at the end of this notice.

10. The Montana Power Company

[Docket No. ER01-2197-000]

Take notice that on June 1, 2001, The Montana Power Company (Montana) tendered for filing with the Federal Energy Regulatory Commission pursuant to 18 C.F.R. § 35.13 an unexecuted Network Integration Transmission Service Agreement with Luzenac America, Inc. Open Access Transmission Tariff).

A copy of the filing was served upon Luzenac America, Inc.

Comment date: June 22, 2001, in accordance with Standard Paragraph E at the end of this notice.

11. Arizona Independent Scheduling Administrator Association

[Docket No. ER01-2198-000]

Take notice that on June 1, 2001, the Arizona Independent Scheduling Administrator Association (Arizona ISA), tendered for filing pursuant to Section 205 of the Federal Power Act a revised version of Original Service Agreement No. 2, the Agreement By And Among Arizona Independent Scheduling Administrator Association, Scheduling Coordinators And Arizona Public Service Company (Agreement).

The revisions reformat the Agreement so that it complies with the requirements of Order No. 614, and adds a signature page executed by Pinnacle West Marketing and Trading. There are no changes to the substantive provisions of the document. The Arizona ISA requests that the Commission make the revisions to the Agreement effective as of May 3, 2001.

Comment date: June 22, 2001, in accordance with Standard Paragraph E at the end of this notice.

12. Jersey Central Power & Light Company; Metropolitan Edison Company; Pennsylvania Electric Company

[Docket No. ER01-2199-000]

Take notice that on June 1, 2001, Jersey Central Power & Light Company, Metropolitan Edison Company and Pennsylvania Electric Company (each doing business and hereinafter collectively referred to as GPU Energy) tendered for filing two amendments to the Restated Composite Power Pooling Agreement among the GPU Energy companies (Restated Agreement). The two amendments consist of revised Schedule 1.04 (First Revised Sheets Nos. 22-25) and revised Schedule 2.05 (First Revised Sheet No. 31) of the Restated Agreement.

The Restated Agreement governs the integrated operation of the three GPU Energy companies. It is on file with the Commission as Jersey Central Power & Light Company, Rate Schedule No. 72, Metropolitan Edison Company, Rate Schedule No. 74 and Pennsylvania Electric Company, Rate Schedule No. 111.

Comment date: June 22, 2001, in accordance with Standard Paragraph E at the end of this notice.

13. Kansas City Power & Light Co.

[Docket No. ER01-2200-000]

Take notice that on June 1, 2001, Kansas City Power & Light Company (KCPL) tendered for filing a Service Agreement under its FERC Electric Tariff, First Revised Volume No. 4, which is KCPL's Market-Based Rate Tariff. This Service Agreement provides for the long-term sale of capacity and energy to the City Utilities of Springfield, Missouri.

Comment date: June 22, 2001, in accordance with Standard Paragraph E at the end of this notice.

14. Entergy Services, Inc., On behalf of the Entergy Operating Companies: Entergy Arkansas, Inc., Entergy Gulf States, Inc., Entergy Louisiana, Inc., Entergy Mississippi, Inc., and Entergy New Orleans, Inc.

[Docket No. ER01-2201-000]

Take notice that on June 1, 2001, Entergy Services, Inc., on behalf of the Entergy Operating Companies, Entergy Arkansas, Inc., Entergy Gulf States, Inc., Entergy Louisiana, Inc., Entergy Mississippi, Inc., and Entergy New Orleans, Inc. (collectively Entergy), tendered for filing revisions to its standard Generator Imbalance Agreement. Entergy requests an effective date of August 1, 2001 for the proposed revisions.

Comment date: June 22, 2001, in accordance with Standard Paragraph E at the end of this notice.

15. Wisconsin Public Service Corporation

[Docket No. ER01-2202-000]

Take notice that on June 1, 2001, Wisconsin Public Service Corporation tendered for filing an executed service agreement with GEN-SYS Energy under its Market-Based Rate Tariff, FERC Electric Tariff Volume No. 10.

Comment date: June 22, 2001, in accordance with Standard Paragraph E at the end of this notice.

16. University Park Energy, LLC

[Docket No. ER01-2203-000]

Take notice that on June 1, 2001, University Park Energy, LLC (University Park) tendered for filing with the Federal Energy Regulatory Commission an executed service agreement with Constellation Power Source, Inc. (Constellation). The agreement is an umbrella agreement which allows Constellation to take service under University Park's FERC Electric Tariff, Original Volume No. 1. University Park respectfully requests an effective date of May 1, 2001.

Comment date: June 22, 2001, in accordance with Standard Paragraph E at the end of this notice.

17. Wolf Hills Energy, LLC

[Docket No. ER01-2204-000]

Take notice that on June 1, 2001, Wolf Hills Energy, LLC (Wolf Hills) tendered for filing an executed service agreement with Constellation Power Source, Inc. (Constellation). The agreement is an umbrella agreement which allows Constellation to take service under Wolf Hills' FERC Electric Tariff, Original Volume No. 1.

Wolf Hills respectfully requests an effective date of May 1, 2001.

Comment date: June 22, 2001, in accordance with Standard Paragraph E at the end of this notice.

18. Florida Power & Light Company; Tampa Electric Company

[Docket No. ER01-2205-000]

Take notice that on June 1, 2001, Florida Power & Light Company and Tampa Electric Company tendered for filing a Request for Approval of Transmission Pricing Plan. This Transmission Pricing Plan will help facilitate the divestiture of Florida Power & Light Company and Tampa Electric Company's transmission facilities to GridFlorida LLC, the Regional Transmission Organization for Peninsular Florida.

Comment date: June 22, 2001, in accordance with Standard Paragraph E at the end of this notice.

19. Commonwealth Edison Company

[Docket No. ER01-2206-000]

Take notice that on June 1, 2001 Commonwealth Edison Company (ComEd) tendered for filing a Service Agreement for Network Integration Transmission Service (NSA) and a Network Operating Agreement (NOA) between ComEd and Dynegy Energy Services, Inc. (Dynegy). These agreements govern ComEd's provision of network service to serve retail load under the terms of ComEd's Open Access Transmission Tariff (OATT).

ComEd requests an effective date of May 5, 2001, and therefore, seeks waiver of the Commission's notice requirements.

Copies of this filing were served on Dynegy.

Comment date: June 22, 2001, in accordance with Standard Paragraph E at the end of this notice.

20. Mid-Continent Area Power Pool

[Docket No. ER01-2207-000]

Take notice that on June 1, 2001, the Mid-Continent Area Power Pool (MAPP), on behalf of its public utility members, tendered for filing amendments to Schedule F, FERC Electric Tariff, First Revised Volume No. 1, that reflect the adoption of the North American Electric Reliability Council transmission loading relief procedures in place of the MAPP line loading relief procedures.

Copies of this filing have been served on all MAPP members as well as the affected state commissions in the MAPP region.

Comment date: June 22, 2001, in accordance with Standard Paragraph E at the end of this notice.

21. Duquesne Light Company

[Docket No. ER01-2208-000]

Take notice that on June 1, 2001 with Exelon Generation Company, LLC under DLC's Open Access Transmission Tariff (Tariff). The Service Agreement adds Exelon Generation Company, LLC as a customer under the Tariff. DLC requests an effective date of September 1, 2001 for the Service Agreement.

Comment date: June 22, 2001, in accordance with Standard Paragraph E at the end of this notice.

22. Duquesne Light Company

[Docket No. ER01-2209-000]

Take notice that on June 1, 2001, Duquesne Light Company (DLC) tendered for filing a Service Agreement dated May 31, 2001 with Exelon Generation Company, LLC under DLC's Open Access Transmission Tariff (Tariff). The Service Agreement adds Exelon Generation Company, LLC as a customer under the Tariff.

DLC requests an effective date of September 1, 2001 for the Service Agreement.

Comment date: June 22, 2001, in accordance with Standard Paragraph E at the end of this notice.

23. IDACORP Energy Solutions, LP

[Docket No. ER01-2210-000]

Take notice that on June 1, 2001, IDACORP Energy Solutions, LP (IES) tendered for filing a letter approving its membership to the Western Systems Power Pool (WSPP). IES requests that the Commission allow its membership in the WSPP to become effective on June 2, 2001.

IES states that a copy of this filing has been provided to the WSPP Executive Committee, the Idaho Public Utilities Commission, Michael E. Small, Esq., and the members of the WSPP.

Comment date: June 22, 2001, in accordance with Standard Paragraph E at the end of this notice.

24. Illinois Power Company

[Docket No. ER01-2211-000]

Take notice that on June 1, 2001, Illinois Power Company (Illinois Power), 500 South 27th Street, Decatur, Illinois 65251-2200, tendered for filing service agreements entered into pursuant to Illinois Power's Open Access Transmission Tariff with The Legacy Energy Group, LLC; Central Illinois Light Company; Calpine Energy Services, L.P.; and Wabash Valley Power Association, Inc.

Illinois Power requests an effective date of June 1, 2001 for each of the agreements and states that a copy of the filing has been sent to each such customer.

Comment date: June 22, 2001, in accordance with Standard Paragraph E at the end of this notice.

25. PJM Interconnection, L.L.C.

[Docket No. ER01-2212-000]

Take notice that on June 1, 2001, PJM Interconnection, L.L.C. (PJM), tendered for filing (i) an executed agreement for firm point-to-point transmission service with Axia Energy, LP (Axia); (ii) an executed agreement for non-firm point-to-point transmission service with Axia; (iii) an executed agreement for firm point-to-point transmission service with BP Energy Company (BP); (iv) an executed agreement for non-firm point-to-point transmission service with BP; (v) an executed agreement for firm point-to-point transmission service with PECO Energy Power Team (PECO); (vi) three service agreements for network integration transmission service for Allegheny Energy Supply Company, L.L.C. (Allegheny); and (vii) three service agreements for network integration transmission service for Conectiv Energy Supply, Inc. (Conectiv).

Copies of this filing were served upon Allegheny, Axia, BP, Conectiv, PECO and the state commissions within the PJM control area.

Comment date: June 22, 2001, in accordance with Standard Paragraph E at the end of this notice.

26. Allegheny Energy Service Corporation on behalf of Allegheny Energy Supply Company, LLC

[Docket No. ER01-2213-000]

Take notice that on June 1, 2001, Allegheny Energy Service Corporation on behalf of Allegheny Energy Supply Company, LLC (Allegheny Energy Supply) tendered for filing Service Agreement Nos. 124 through 126 to add three (3) new Customers to the Market Rate Tariff under which Allegheny Energy Supply offers generation services. Allegheny Energy Supply proposes to make service available as of June 1, 2001 to Borough of Hooversville, Berlin Borough and Borough of Smethport.

Copies of the filing have been provided to the Public Utilities Commission of Ohio, the Pennsylvania Public Utility Commission, the Maryland Public Service Commission, the Virginia State Corporation Commission, the West Virginia Public Service Commission, and all parties of record.

Comment date: June 22, 2001, in accordance with Standard Paragraph E at the end of this notice.

27. Entergy Services, Inc., On behalf of the Entergy Operating Companies: Entergy Arkansas, Inc., Entergy Gulf States, Inc., Entergy Louisiana, Inc., Entergy Mississippi, Inc., and Entergy New Orleans, Inc.

[Docket No. ER01-2214-000]

Take notice that on June 1, 2001, Entergy Services, Inc., on behalf of the Entergy Operating Companies, Entergy Arkansas, Inc., Entergy Gulf States, Inc., Entergy Louisiana, Inc., Entergy Mississippi, Inc., and Entergy New Orleans, Inc. (collectively Entergy), tendered for filing proposed revisions to its pro forma Open Access Transmission Tariff relating to ancillary services schedules 3-6.

Entergy requests an effective date of August 1, 2001 for the proposed revisions.

Comment date: June 22, 2001, in accordance with Standard Paragraph E at the end of this notice.

28. Curtis Palmer Hydroelectric Company, L.P.

[Docket No. EG01-220-000]

Take notice that on May 31, 2001, Curtis Palmer Hydroelectric Company, L.P., with its principal place of business at 15 Pine Street, Corinth, New York 12822, filed with the Federal Energy Regulatory Commission an application for determination of exempt wholesale generator status pursuant to Part 365 of the Commission's regulations. Curtis Palmer Hydroelectric Company, L.P. is a New York limited partnership that owns a hydroelectric generation facility near Corinth, New York.

Comment date: June 27, 2001, in accordance with Standard Paragraph E at the end of this notice. The Commission will limit its consideration of comments to those that concern the adequacy or accuracy of the application.

29. Nordic Energy Barge #1, L.L.C., Nordic Energy Barge #2, L.L.C.

[Docket No. EG01-221-000]

Take notice that on May 30, 2001, Nordic Energy Barge #1, L.L.C. and Nordic Energy Barge #2, L.L.C. (collectively, Nordic Energy Barge LLCs), filed with the Federal Energy Regulatory Commission (Commission) an application for determination of exempt wholesale generator status pursuant to Part 365 of the Commission's regulations.

Each of the Nordic Energy Barge LLCs will be engaged either directly or indirectly and exclusively in the business of owning and operating electric generation facilities. Specifically, each of the Nordic Energy Barge LLCs plans to own an electric generating unit to be sited in Washington or Oregon on the Columbia River, in the vicinity of Longview, Washington.

Comment date: June 27, 2001, in accordance with Standard Paragraph E at the end of this notice. The Commission will limit its consideration of comments to those that concern the adequacy or accuracy of the application.

30. CPV Pierce, Ltd.

[Docket No. EG01-222-000]

Take notice that on May 25, 2001, CPV Pierce, Ltd. (Applicant), c/o Competitive Power Ventures, Inc., Silver Spring Metro Plaza I, 8401 Colesville Road, Suite 504, Silver Spring, MD 20910, filed with the Federal Energy Regulatory Commission (Commission) an Application for Determination of Exempt Wholesale Generator Status pursuant to Part 365 of the Commission's regulations and Section 32 of the Public Utility Holding Company Act of 1935, as amended.

Applicant, a Florida limited partnership, is a special purpose entity established to develop, construct, own and operate a nominally rated 250 MW natural gas fired combined cycle generating facility (Facility) to be located in Mulberry, Polk County, Florida. The Facility will consist of one (1) F class combustion turbine, one (1) heat recovery steam generator and a single steam turbine. The Facility as currently configured will include certain transmission interconnection facilities necessary to effect the sale of electric energy at wholesale and interconnect the Facility to the transmission grid. All of the electricity generated by the Facility will be sold exclusively at wholesale.

Comment date: June 27, 2001, in accordance with Standard Paragraph E at the end of this notice. The Commission will limit its consideration of comments to those that concern the adequacy or accuracy of the application.

31. CPN Pleasant Hill Operating, LLC

[Docket No. EG01-223-000]

Take notice that on May 25, 2001, CPN Pleasant Hill Operating, LLC (CPN Operating), filed with the Federal Energy Regulatory Commission (Commission) an application for determination of exempt wholesale generator status pursuant to part 365 of the Commission's regulations.

CPN Operating, a Delaware limited liability company, proposes to lease a fifty-percent leasehold interest in and market at wholesale the output of an approximately 600-MW natural gas-fired combined-cycle generating facility being constructed near Pleasant Hill, Cass County, Missouri.

Comment date: June 27, 2001, in accordance with Standard Paragraph E at the end of this notice. The Commission will limit its consideration of comments to those that concern the adequacy or accuracy of the application.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14756 Filed 6-11-01; 8:45 am]

BILLING CODE 6717-01-P